FEDERAL COMMUNICATIONS COMMISSION

47 CFR Part 4

[PS Docket No. 11-82; FCC 11-74]

Proposed Extension of Part 4 of the Commission's Rules Regarding Outage Reporting to Interconnected Voice Over Internet Protocol Service Providers and Broadband Internet Service Providers; Correction

AGENCY: Federal Communications Commission.

ACTION: Proposed rule; correction.

SUMMARY: The Federal Communications Commission published a document in the Federal Register of June 9, 2011, concerning request for comments on a proposal to extend the Commission's communications outage reporting requirements to interconnected Voice over Internet Protocol (VoIP) service providers and broadband Internet Service Providers (ISPs). The document contained incorrect information regarding proposed information collection.

FOR FURTHER INFORMATION CONTACT: Gregory Intoccia, Public Safety and Homeland Security Bureau, at (202) 418-1470, Federal Communications Commission, 445 12th Street, SW., Washington, DC 20554; or via the Internet to Gregory.Intoccia@fcc.gov.

Correction

In the Federal Register of June 9, 2011, in FR Doc. 2011-14311, on page 33699, in the third column, correct paragraph 108 to read:

This document contains proposed information collection requirements. The Commission, as part of its continuing effort to reduce paperwork burdens, invites the general public and the Office of Management and Budget (OMB) to comment on the information collection requirements contained in this document, as required by the Paperwork Reduction Act of 1995, Public Law 104-13. Public and agency comments are due on or before August 8, 2011, and reply comments are due on or before October 7, 2011. Comments should address: (a) Whether the proposed collection of information is necessary for the proper performance of the functions of the Commission, including whether the information shall have practical utility; (b) the accuracy of the Commission's burden estimates; (c) ways to enhance the quality, utility, and clarity of the information collected; (d) ways to minimize the burden of the collection of information on the respondents, including the use of automated collection techniques or other forms of information technology; and (e) way to further reduce the information collection burden on small business concerns with fewer than 25 employees. In addition, pursuant to the Small Business Paperwork Relief Act of 2002, Public Law 107-198, see 44 U.S.C. 3506(c)(4), we seek specific comment on how we might further reduce the information collection burden for small business concerns with fewer than 25 employees.

OMB Control Number: None.

Title: Communications Outage Reporting for Interconnected Voice over Internet Protocol Service Providers, Broadband Internet Access Service Providers, and Broadband Backbone Internet Service Providers.

Type of Review: New collection.

Respondents: Businesses (Interconnected Voice over Internet Protocol Service Providers and Broadband Internet Service Providers).

Number of Respondents and Responses: 22,000 (estimated) potential Respondents, but fewer than 2000 outage reports are expected annually.

Estimated Time Per Response: Less than one hour.

Frequency of Response: Indeterminate—reporting only required when Respondent experiences certain threshold outage conditions; nation-wide fewer than 2,000 outage reports are expected annually.

Obligation To Respond: Under the proposal, notification would be required within 2 hours after discovering an outage reaching threshold conditions; an initial report would be due within 72 hours after discovering an outage reaching threshold conditions; and a final report would be due within 30 days after discovering the outage reaching threshold conditions.

Total Annual Burden: The same or similar information is believed to be collected in the ordinary course of business and would be submitted electronically, and therefore the burden would be minimal.

Total Annual Costs: The same or similar information is believed to be collected in the ordinary course of business and would be submitted electronically, and therefore cost would be minimal.

Privacy Act Impact Assessment: N/A.

Nature and Extent of Confidentiality: Reporting on confidential basis.

Needs and Uses: To better understand the causes of, and reduce the outages of Interconnected Voice over Internet Protocol Service and Broadband Internet Service, especially as these outages affect 911 service.

Statutory Authority: Sections 1, 2, 4(i)-(k), 4(o), 218, 219, 230, 256, 301, 302(a), 303(f), 303(g), 303(j), 303(r), 403, 615a-1, 621(b)(3), 621(d), 1302(a), and 1302(b) of the Communications Act of 1934, as amended, 47 U.S.C. 151, 152, 154(i)-(k), 154(o), 218, 219, 230, 256, 301, 302(a), 303(f), 303(g), 303(j), 303(r), 403, 615a-1, 621(b)(3), 621(d), 1302(a), and 1302(b), and section 1704 of the Omnibus Consolidated and Emergency Supplemental Appropriations Act of 1998, 44 U.S.C. 3504.

Federal Communications Commission.
Marlene H. Dortch,
Secretary.

[FR Doc. 2011-15745 Filed 6-22-11; 8:45 am]

BILLING CODE 6712-01-P